DEPARTMENT OF THE INTERIOR

Fish and Wildlife Service

Proposed Low Effect Habitat Conservation Plan for Washington Department of Natural Resources' Commercial Geoduck Fishery

AGENCY: Fish and Wildlife Service, Interior.

ACTION: Notice of availability; receipt of application.

SUMMARY: We, the Fish and Wildlife Service (Service), advise the public that the Washington Department of Natural Resources (WDNR) has applied for an incidental take permit (ITP), pursuant to section 10(a)(1)(B) of the Endangered Species Act of 1973, as amended (Act). The requested 50-year permit would authorize the incidental take of covered species associated with WDNR's management of the State's Commercial Geoduck Fishery. We are requesting comments on the permit application and on whether the proposed Habitat Conservation Plan (HCP) qualifies as a “low-effect” HCP, eligible for a categorical exclusion under the National Environmental Policy Act (NEPA) of 1969, as amended. We explain the basis for this possible determination in a draft environmental action statement (EAS), which is also available for public review.

DATES: Written comments must be received by 5 p.m. on October 15, 2007.

ADDRESSES: Address comments to Ken Berg, Manager, Western Washington Fish and Wildlife Office, U.S. Fish and Wildlife Service, 510 Desmond Drive SE., Suite 102, Lacey, WA 98503. You may also send comments by facsimile to (206) 753-9405 or by electronic mail to geoduckhcp@fws.gov. For further information and instruction on the reviewing and commenting process, see Public Availability of Comments section below.

FOR FURTHER INFORMATION CONTACT: Jo Ellen Henry, Fish and Wildlife Biologist, U.S. Fish and Wildlife Service (see ADDRESSES), or telephone (360) 753-7766.

SUPPLEMENTARY INFORMATION:

Availability of Documents

If you would like copies of the application, proposed HCP, or EAS, contact us by telephone (see FOR FURTHER INFORMATION CONTACT) or by letter (see ADDRESSES). Copies of the subject documents also are available for public inspection during regular business hours at the Western Washington Fish and Wildlife Office (see ADDRESSES) and the Western Washington Fish & Wildlife Service internet site: http://www.fws.gov/westwafwo/consplan/docs.html.

Background

Section 9 of the Act (16 U.S.C. 1531 et seq.) and Federal regulations prohibit the “take” of a fish or wildlife species listed as endangered or threatened. Take of federally listed fish and wildlife is defined under section 3 of the Act as including to “harass, harm, pursue, hunt, shoot, wound, kill, trap, capture or collect, or to attempt to engage in such conduct” (16 U.S.C. 1538). We may, under limited circumstances, issue permits to authorize “incidental take” of listed species. “Incidental take” is defined by the Act as take that is incidental to, and not the purpose of, carrying out an otherwise lawful activity. Regulations governing permits for threatened species and endangered species, respectively, are at 50 CFR 17.32 and 50 CFR 17.22. The applicant is seeking a permit for the incidental take of species that are listed as either threatened or endangered under the Act, and certain species should they become listed during the 50-year term of the permit. The species under consideration for coverage include bald eagle (Haliaeetus leucocephalus), California brown pelican (Pelecanus occidentalis), marbled murrelet (Brachyramphus marmoratus), tufted puffin (Fratercula cirrhata), bull trout (Salvelinus confluentus), and coastal cutthroat trout (O. clarki clarki).

Proposed covered activities under the HCP include the subtidal harvest of wild stock geoduck clams (Panopea abrupta) on State-owned aquatic lands for commercial, research and health sampling purposes.

The majority of subtidal lands in the State, and the resources embedded in them, are owned by Washington State and managed by the WDNR. The geoduck clam is among the most commercially valuable of these resources.

The wild geoduck fishery in the state is jointly managed by WDNR, Washington Department of Fish and Wildlife (WDFW), and the Puget Sound Treaty Indian Tribes (tribes). The State and the tribes each have a right to 50 percent of the allowable geoduck catch. The State and the tribes are jointly responsible for estimating geoduck population size, determining sustainable yield, and protecting the health of the geoduck stock and the habitat they depend upon. WDNR offers the State's half of the geoduck harvest at auctions for the right of private companies and individuals to harvest specific quantities of geoducks in specific areas. As the State's managers of the geoduck resource, WDNR and WDFW enforce civil and criminal Washington State laws, regulations and contract conditions that apply to the State's fishery.

Washington's commercial geoduck fishery is divided into six geoduck management regions. Commercial harvest occurs within one management region at a time, and usually on one tract at a time. There are currently 400 commercial geoduck tracts comprising approximately 30,000 acres of subtidal bedlands. Ten to 14 harvest quotas are offered at each WDNR geoduck harvest auction, resulting in 30 to 40 individual harvest agreements annually. Typically, one or two tracts are open for harvest at any given time. The tract boundaries are defined by a water depth of -18 feet mean lower low water (MLLW) to the outer edge of the harvest area (depth of -70 feet MLLW). Most of the subtidal tracts range in size from 18 acres to 459 acres. A small number of tracts are larger. Harvest limits are based on the annual harvest level (Total Allowable Catch (TAC)). The TAC for a management region is the total weight of geoduck that may be harvested during the year in each management region. The number is calculated annually and is the product of the regional commercial biomass estimate multiplied by the equilibrium harvest rate.

The proposed minimization and mitigation measures include, but are not limited to: Limiting the number of acres open to harvest in each management region per year; permitting harvest only from tracts designated through contract by WDNR; clearly marking tracts with easily identifiable stakes and/or buoys, and recording latitude and longitude positions on all markers; limiting surface noise levels; applying harvest boundaries and buffers to protect eelgrass beds, forage fish spawning areas and other sensitive nearshore habitats and providing direct oversight of the fishery by maintaining compliance staff aboard vessels on harvest tracts each day that commercial geoduck harvest occurs.

Approval of the HCP may qualify for a categorical exclusion under NEPA, as provided by the Departmental Manual (516 DM2 Appendix 1 and 516 DM 6 Appendix 1), and as a “low-effect” plan as defined by the Habitat Conservation Planning Handbook (Service, November 1996). We determine whether an HCP is low effect based upon whether the HCP has minor or negligible effects on federally listed, proposed, or candidate species and their habitats; minor or negligible effects on other environmental values or resources; and impacts that together with the impacts of other past, present, and reasonably foreseeable similarly situated projects would, not result, over time, in cumulative effects to the environmental values or resources which would be considered significant. If we find the HCP to qualify as a low-effect HCP, further NEPA documentation would not be required.

Public Availability of Comments

Before including your address, phone number, e-mail address, or other personal identifying information in your comment, you should be aware that your entire comment—including your personal identifying information—may be made publicly available at any time. While you can ask us in your comment to withhold your personal identifying information from public review, we cannot guarantee that we will be able to do so. If we determine that the requirements are met, we will issue an incidental take permit under section 10(a)(1)(B) of the Act to the applicant for take of the proposed covered species, incidental to otherwise lawful activities in accordance with the terms of the permit. We will not make our final decision until after the end of the 30-day comment period and will fully consider all comments received during the comment period.

We provide this notice under section 10(c) of the Act and NEPA implementing regulations (40 CFR 1506.6).

Dated: September 7, 2007.
Ken S. Berg,
Manager, Western Washington Fish and Wildlife Office, U.S. Fish and Wildlife Service, Lacey, Washington.

[FR Doc. E7-18128 Filed 9-13-07; 8:45 am]

BILLING CODE 4310-55-P